DEPARTMENT OF VETERANS AFFAIRS

Advisory Committee: National Academic Affiliations Council Notice of Meeting

The Department of Veterans Affairs (VA) gives notice under Public Law 92-463 (Federal Advisory Committee Act) that a meeting of the National Academic Affiliations Council will be held March 31, 2015-April 1, 2015 in the Office of Academic Affiliations (OAA) Conference Room, 1800 G Street NW., Suite 870, Washington, DC. The March 31st sessions will begin at 9 a.m. and end at 4:30 p.m. On April 1st, sessions will begin at 9 a.m. and adjourn at 1 p.m.

The purpose of the Council is to advise the Secretary on matters affecting partnerships between VA and its academic affiliates.

On March 31, the Council will discuss strategies for continued Graduate Medical Education (GME) expansion pertaining to the 2014 Veterans Access, Choice, and Accountability (VACAA) Act; potential for health professions education expansion in rural areas; and potential new VA academic partnerships. On April 1, the Council will discuss nursing education, hear remarks from the Deputy Secretary of Veterans Affairs, and continue the discussion concerning opportunities and challenges impacting academic affiliation relationships. The Council will receive public comments from 12:30 p.m. to 12:45 p.m. on April 1, 2015.

Interested persons may attend and present oral statements to the Council. A sign-in sheet for those who want to give comments will be available at the meeting. Individuals who speak are invited to submit a 1-2 page summary of their comments at the time of the meeting for inclusion in the official meeting record. Oral presentations will be limited to five minutes or less, depending on the number of participants. Interested parties may also provide written comments for review by the Council prior to the meeting or at any time, by email to, William.Marks@va.gov, or by mail to William J. Marks M.D., MS-HCM, Chief of Health Professions Education, Office of Academic Affiliations (10A2D), 810 Vermont Avenue NW., Washington, DC 20420. Because the meeting is being held in a government building, a photo I.D. must be presented at the Guard's Desk as a part of the clearance process. Therefore, you should allow an additional 15 minutes before the meeting begins. Any member of the public wishing to attend or seeking additional information should contact Dr. Marks via email or by phone at (415) 750-2100.

Dated: February 12, 2015.
Jelessa Burney,
Federal Advisory Committee Management Officer.

[FR Doc. 2015-03324 Filed 2-18-15; 8:45 am]

BILLING CODE 8320-01-P